INTERNATIONAL TRADE COMMISSION

[Investigation Nos. 701-TA-455 and 731 TA 1149 (Third Review)]

Circular Welded Carbon Quality Steel Line Pipe From China

Determinations

On the basis of the record ¹ developed in the subject five-year reviews, the United States International Trade Commission (“Commission”) determines, pursuant to the Tariff Act of 1930 (“the Act”), that revocation of the antidumping and countervailing duty orders on circular welded carbon quality steel line pipe from China would be likely to lead to continuation or recurrence of material injury to an industry in the United States within a reasonably foreseeable time.

¹ The record is defined in § 207.2(f) of the Commission's Rules of Practice and Procedure (19 CFR 207.2(f)).

Background

The Commission instituted these reviews on September 3, 2024, (89 FR 71419) and determined on December 9, 2024, that it would conduct expedited reviews (90 FR 8301, January 28, 2025).

The Commission made these determinations pursuant to section 751(c) of the Act (19 U.S.C. 1675(c)). It completed and filed its determinations in these reviews on March 14, 2025. The views of the Commission are contained in USITC Publication 5598 (March 2025), entitled Circular Welded Carbon Quality Steel Line Pipe from China: Investigation Nos. 701-TA-455 and 731-TA-1149 (Third Review).

By order of the Commission.
Issued: March 14, 2025.
Lisa Barton,
Secretary to the Commission.

[FR Doc. 2025-04663 Filed 3-19-25; 8:45 am]

BILLING CODE 7020-02-P